DEPARTMENT OF COMMERCE

International Trade Administration

Environmental Technologies Trade Advisory Committee

AGENCY: International Trade Administration, Department of Commerce.

ACTION: Notice of an open meeting of a Federal advisory committee.

SUMMARY: The Environmental Technologies Trade Advisory Committee (ETTAC) will hold a hybrid meeting, accessible in-person and online, on Tuesday September 26, 2023 at the U.S. Department of Commerce in Washington, DC The meeting is open to the public with registration instructions provided below. This notice sets forth the schedule and proposed topics for the meeting.

DATES: The meeting is scheduled for Tuesday, September 26, 2023 from 8:45 a.m. to 3:30 p.m. Eastern Daylight Time (EDT). The deadline for members of the public to register to participate, including requests to make comments during the meeting and for auxiliary aids, or to submit written comments for dissemination prior to the meeting, is 5:00 p.m. EDT on Friday, September 15, 2023.

ADDRESSES: The meeting will be held virtually as well as in-person in the Research Library at the U.S. Department of Commerce Herbert Clark Hoover building, 1401 Constitution Avenue NW, Washington, DC 20230. Requests to register to participate in-person or virtually (including to speak or for auxiliary aids) and any written comments should be submitted via email to Ms. Megan Hyndman, Office of Energy & Environmental Industries, International Trade Administration, at Megan.Hyndman@trade.gov. This meeting has a limited number of spaces for members of the public to attend in-person. Requests to participate in-person will be considered on a first-come, first-served basis.

FOR FURTHER INFORMATION CONTACT: Ms. Megan Hyndman, Office of Energy & Environmental Industries, International Trade Administration (Phone: 202-823-1839; email: Megan.Hyndman@trade.gov).

SUPPLEMENTARY INFORMATION: The ETTAC is mandated by section 2313(c) of the Export Enhancement Act of 1988, as amended, 15 U.S.C. 4728(c), to advise the Environmental Trade Working Group of the Trade Promotion Coordinating Committee, through the Secretary of Commerce, on the development and administration of programs to expand U.S. exports of environmental technologies, goods, services, and products. The ETTAC was most recently re-chartered through August 16, 2024.

On Tuesday, September 26, 2023 from 8:45 a.m. to 3:30 p.m. EDT, the ETTAC will hold the third meeting of its current charter term. The Committee, with officials from the U.S. Department of Commerce and other agencies, will discuss U.S. government resources and programs to support U.S. environmental technology exporters, including the U.S. National Export Strategy, ITA trade promotion activities at the Water Environment Federation's Technical Exhibition and Conference, (WEFTEC), ITA programming at COP28, and other matters based on ETTAC member interests. An agenda will be made available one week prior to the meeting upon request to Megan Hyndman.

The meeting will be open to the public and time will be permitted for public comment before the close of the meeting. Members of the public seeking to attend the meeting are required to register by Friday, September 15, 2023, at 5:00 p.m. EDT, via the contact information provided above. This meeting is physically accessible to people with disabilities. Requests for sign language interpretation or other auxiliary aids should be directed to OEEI at Megan.Hyndman@trade.gov or (202) 823-1839 no less than one week prior to the meeting. Requests received after this date will be accepted, but it may not be possible to accommodate them.

Written comments concerning ETTAC affairs are welcome any time before or after the meeting. To be considered during the meeting, written comments must be received by Friday, September 15, 2023, at 5:00 p.m. EDT to ensure transmission to the members before the meeting. Draft minutes will be available within 30 days of this meeting.

Dated: August 25, 2023.
Man K. Cho,
Deputy Director, Office of Energy and Environmental Industries.

[FR Doc. 2023-18888 Filed 8-31-23; 8:45 am]

BILLING CODE 3510-DR-P